DEPARTMENT OF AGRICULTURE

Forest Service

Tamarack Quarry Expansion, Mt. Hood National Forest, Clackamas County, OR

AGENCY: Forest Service, USDA.

ACTION: Revision of a notice of intent to prepare an environmental impact statement.

SUMMARY: Notice is hereby given that the Forest Service, USDA, will modify the title of the Palmer Quarry Expansion Environmental Impact Statement (EIS). This modification is the result of a name change of the quarry from Palmer to Tamarack. Therefore, the title of the EIS of this project, which was listed in the Notice of Intent published in the Federal Register on January 15, 2002 (67 FR 1955), is revised to “Tamarack Quarry Expansion”. No other changes are made.

FOR FURTHER INFORMATION CONTACT: Questions about the Notice of Intent and its modification should be directed to Mike Redmond, Environmental Coordination, 16400 Champion Way, Sandy, Oregon 97055-7248 (phone: 503-668-1776).

Dated: May 22, 2002.
Gary L. Larsen,
Forest Supervisor.

[FR Doc. 02-10830 Filed 5-1-02; 8:45 am]

BILLING CODE 3410-11-M